DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Foreign Sanctions Evaders List based on OFAC's determination that one or more applicable legal criteria were satisfied. U.S. persons are generally prohibited from engaging in transactions or dealings with such persons.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Foreign Sanctions Evaders List and additional information concerning OFAC sanctions programs are available on OFAC's website (www.treas.gov/ofac).

Notice of OFAC Actions

On February 7, 2019, OFAC determined that all transactions or dealings, whether direct or indirect, involving the following person, including any exporting, reexporting, importing, selling, purchasing, transporting, swapping, brokering, approving, financing, facilitating, or guaranteeing, in or related to (i) any goods, services, or technology in or intended for the United States, or (ii) any goods, services, or technology provided by or to United States persons, wherever located, are prohibited under the relevant sanctions authority listed below.

Individual

1. KAYAKIRAN, Evren, Turkey; DOB 08 Feb 1980; citizen Turkey; Gender Male; Passport U00242309 (Turkey) (individual) [FSE-IR].

Sanctioned pursuant to section 1(a)(i) of Executive Order 13608 of May 1, 2012, “Prohibiting Certain Transactions With and Suspending Entry Into the United States of Foreign Sanctions Evaders With Respect to Iran and Syria,” for causing six violations of Section 4 of Executive Order 13628, as continued in effect by Sections 8 and 20(a) of Executive Order 13846, as well as a prohibition contained in Section 560.215 of the Iranian Transactions and Sanctions Regulations, 31 CFR part 560, thereby violating an Executive order relating to the national emergency declared in Executive Order 12957 of March 15, 1995 or any regulation issued pursuant to the foregoing, as modified in scope in subsequent Executive orders.

Dated: February 7, 2019.
Andrea M. Gacki,
Director, Office of Foreign Assets Control.

[FR Doc. 2019-02363 Filed 2-14-19; 8:45 am]

BILLING CODE 4810-AL-P